DEPARTMENT OF ENERGY

Federal Energy Regulatory Commission

[Project No. 1864-003]

Upper Peninsula Power Company; Notice of Intent To Prepare an Environmental Document and Soliciting Comments

November 25, 2009.

Take notice that the following material addressing required dam safety measures has been filed with the Commission and is available for public inspection:

a. Filing: Environmental report to support replacement of the spillway at the Bond Falls Development which is being required under Part 12 of the Commission's regulations.

b. Project No: 1864-003.

c. Date Filed: August 21, 2009, and supplemented on November 17, 2009.

d. Licensee: Upper Peninsula Power Company.

e. Name of Project: Bond Falls Hydroelectric Project.

f. Location: The Bond Falls Hydroelectric Project is located on the Ontonagon River in Ontonagon and Gogebic Counties, Michigan, and Vilas county, Wisconsin, partially on lands within the Ottawa National Forest. The Bond Falls Development is located on the Middle Branch of the Ontonagon River in Ontonagon County, Michigan, and occupies 73.5 acres of land within the Ottawa National Forest.

g. Filed Pursuant to: Federal Power Act, 16 U.S.C. 791a-825r.

h. Licensee Contact: Rick Moser, Upper Peninsula Power Company, 700 North Adams Street, P.O. Box 19001, Green Bay, WI 54307-9001, (920) 433-2290.

i. FERC Contact: Rachel Price, (202) 502-8907, and e-mail: rachel.price@ferc.gov.

j. Deadline for filing comments: December 28, 2009.

All documents should be filed with: Kimberly D. Bose, Secretary, Federal Energy Regulatory Commission, 888 First Street, NE., Washington, DC 20426. Comments may be filed electronically via the Internet, see 18 CFR 385.2001 (a)(1)(iii) and the instructions on the Commission's Web site under the “e-filing” link. The Commission strongly encourages electronic filings. In lieu of electronic filing, an original and eight copies of all documents may be mailed to the Secretary at the address above.

k. Description of material: Upper Peninsula Power Company has filed an Environmental Report in support of its plan to replace the spillway at the Bond Falls Development, part of the Bond Falls Hydroelectric Project (FERC No. 1864). The project consists of four separate developments: Bond Falls, Bergland, Cicso, and Victoria. The proposed work at the Bond Falls spillway would take place within the Bond Falls Development which is on the Middle Branch of the Ontonagon River. The Bond Falls reservoir is operated to store water and divert river flow from the Middle Branch to the South Branch of the Ontonagon River. A recent hydraulic study determined that the existing spillway capacity is inadequate to pass the flows associated with the calculated Probable Maximum Flood (PMF) for the project location. To ensure the licensee's compliance with FERC engineering guidelines and safety regulations, modifications to the spillway are necessary. The licensee plans to replace the existing spillway with a new spillway incorporating two larger tainter gates at a lower sill elevation. In addition, the licensee plans to replace the existing low level outlet with a new low level structure incorporated into the new spillway, and raise the embankment crest in low areas of the main, auxiliary, and control dams of the Bond Falls Development. In order to complete construction, the licensee plans to drawdown the reservoir to an elevation of 1455.8 feet North American Vertical Datum of 1988, and maintain the reservoir at that elevation during all of 2010. In addition the spillway replacement construction activities will result in the temporary closure of some of the project's recreational facilities during 2010.

The Commission intends to prepare an environmental document under the National Environmental Policy Act (NEPA) for the planned Bond Falls spillway replacement. The NEPA document will be used by the Commission to identify environmental impacts and to identify measures that would help mitigate the impacts caused by the activities associated with the spillway replacement.

l. Locations of the Filing: A copy of the filing is available for inspection and reproduction at the Commission's Public Reference Room, located at 888 First Street, NE., Room 2A, Washington, DC 20426. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659.

m. Individuals desiring to be included on the Commission's mailing list should so indicate by writing to the Secretary of the Commission.

n. Comments: Anyone may submit comments on the material described in this notice. In completing its environmental review, the Commission will consider all comments filed. Any comments must be received on or before deadline for filing comments specified above.

o. Any filing made with the Commission in response to this notice must bear in all capital letters the title “COMMENTS” and the Project Number: P-1864-003.

p. Agency Comments: Federal, state, and local agencies are invited to file comments on the material described in this notice. A copy of the filing may be obtained by agencies directly from the licensee. If an agency does not file comments within the time specified for filing comments, it will be presumed to have no comments. One copy of an agency's comments must also be sent to the licensee's representatives.

q. Comments may be filed electronically via the Internet in lieu of paper. See, 18 CFR 385.2001(a)(1)(iii) and the instructions on the Commission's Web site at http://www.ferc.gov under the “e-Filing” link.

Kimberly D. Bose,
Secretary.

[FR Doc. E9-28921 Filed 12-3-09; 8:45 am]

BILLING CODE 6717-01-P